DEPARTMENT OF THE INTERIOR

National Park Service

[NPS-WASO-NRNHL-0112-9326; 2200-3200-665]

National Register of Historic Places; Notification of Pending Nominations and Related Actions

Nominations for the following properties being considered for listing or related actions in the National Register were received by the National Park Service before January 14, 2012. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, (202) 371-6447. Written or faxed comments should be submitted by February 21, 2012. Before including your address, phone number, email address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

ARKANSAS

Yell County

Sulphur Springs Cemetery, Slo Fork Rd., Sulphur Springs, 12000038

CONNECTICUT

New London County

New England Hebrew Farmers of the Emanuel Society Synagogue and Creamery Site, Jct. of CT 161 & CT 85, Chesterfield, 12000039

ILLINOIS

Cook County

Chicago Park Boulevard System Historic District, Douglas, Gage, McKinley, Jackson, Sherman, Washington, Garfield, & Humboldt Parks, E. Oakwood, S. Drexel Blvds., Chicago, 12000040

KANSAS

Sedgwick County

Bitting Building, 107 N. Market St., Wichita, 12000046

KENTUCKY

Boone County

Roberts, Thomas Zane, House and Workshop, (Boone County, Kentucky MPS),5074 Middle Creek Rd., Burlington, 12000042

Walton, John J., House, (Boone County, Kentucky MPS), 5408 Belleview Rd., Belleview, 12000041

Jackson County

Annville Institute, 190 Campus Dr., Annville, 12000043

Jefferson County

Jacob, Charles D, Elementary School, 3670 Wheeler Ave., Louisville, 12000044

Lee County

St. Therese Church, 4375 KY 399, Beattyville, 12000045

McCracken County

Wallace Park Neighborhood Historic District, Roughly bounded by Buckner Ln., Maple Ave., Forest Cir., & Lone Oak Rd., Paducah, 12000047

Mercer County

Forsythe—Shewmaker House, 603 Vanarsdall Rd., Harrodsburg, 12000048

MISSOURI

Warren County

Hickory Grove Cemetery, Hickory Grove Cemetery Rd., Wright City, 12000049

Wright County

Mountain Grove City Hall, 301 E. 1st St., Mountain Grove, 12000050

MONTANA

Missoula County

Fort Missoula Historic District (Boundary Increase), Jct. of Reserve St. & South Ave., Missoula, 12000051

NEW YORK

Queens County

Parkway Village, Bounded by Union Tpk., 150th St., Goethals Ave., Parsons Blvd., Grand Central Pkwy., & Main St., Queens, 12000052

WISCONSIN

Door County

Jacksonport Wharf Archeological District, Off Cty. Rd. V at Lakeside Park in Lake Michigan, Jacksonport, 12000053

WYOMING

Carbon County

Site 32 SL-O Intermediate Field Historic District, .9 mi. SE. of Medicine Bow off Cty. Rd. 1, Medicine Bow, 12000054

Fremont County

South Pass City Historic District (Boundary Increase), 675 Atlantic City Rd., South Pass City, 12000055

A request for removal has been made for the following resources:

INDIANA

Huntington County

Snider, S.C., and George McFeeley Polygonal Barn, IN 9/37 ½ mi. S of jct. with Division Rd., Huntington, 93000185

KANSAS

Osborne County

I.O.O.F. Lodge, Nicholas & Mill Sts., Alton, 12000046

[FR Doc. 2012-2537 Filed 2-3-12; 8:45 am]

BILLING CODE 4312-51-P